DEPARTMENT OF HOMELAND SECURITY

Coast Guard

[Docket No. USCG-2007-27156]

National Maritime Security Advisory Committee

AGENCY: Coast Guard, DHS.

ACTION: Committee Management; Notice of Federal Advisory Committee Meeting.

SUMMARY: The National Maritime Security Advisory Committee (NMSAC) will meet on February 28, 2007, in Arlington, Virginia to discuss various issues relating to national maritime security. This meeting will be open to the public.

DATES: NMSAC will meet on Wednesday, February 28, 2007, from 9 a.m. to 4 p.m. Please note that the meeting may close early if the committee has completed its business.

ADDRESSES: NMSAC will meet in the Cavalier Ballroom at the Sheraton National Hotel, 900 South Orme Street, Arlington, Virginia 22204. Send written material, comments and requests to make oral presentations to Mr. Ike Eisentrout, Commandant (CG-3PCP-1), NMSAC Executive Assistant, U.S. Coast Guard Headquarters, Room 5302, 2100 Second St. SW., Washington, DC 20593-0001. Written material, comments and requests to make oral presentations at the meeting should reach the contact person listed above by February 15, 2007. Requests to have a copy of your material distributed to each member of the committee prior to the meeting should reach the contact person listed above by February 15, 2007 (please provide 25 paper copies or one electronic copy). Comments must be identified by [USCG-2007-27156] and may be submitted by one of the following methods:

• Federal eRulemaking Portal: http://www.regulations.gov. Follow the instructions for submitting comments.

• E-mail: Brian.K.Eisentrout@uscg.mil. One electronic copy, (include the docket number in the subject line of the message).

• Fax: 202-372-1905.

• Mail: Mr. Ike Eisentrout, Commandant (CG-3PCP-1), NMSAC Executive Assistant, U.S. Coast Guard Headquarters, Room 5302, 2100 Second St. SW., Washington, DC 20593-0001.

Instructions: All submissions (twenty-five paper copies) received must include the words “Department of Homeland Security” and the docket number for this action [USCG-2007-27156]. Comments received will be posted without alteration at www.regulations.gov, including any personal information provided.

Docket: For access to the docket to read background documents or comments received by the NMSAC, go to http://www.regulations.gov.

FOR FURTHER INFORMATION CONTACT: Mr. Ike Eisentrout, Commandant (CG-3PCP-1), NMSAC Executive Assistant, U.S. Coast Guard Headquarters, Room 5302, 2100 Second St. S.W., Washington, DC 20593-0001, Brian.K.Eisentrout@uscg.mil, 202-372-1119, Fax 202-372-1905.

SUPPLEMENTARY INFORMATION: Notice of the meeting is given pursuant to the Federal Advisory Committee Act, 5 U.S.C. App. 2 (Pub. L. 92-463). The NMSAC purpose is to advise and make recommendations to the Secretary of Homeland Security via the Commandant of the Coast Guard on policies and procedures dealing with National Maritime Security. The NMSAC will meet for the purpose of discussing the items listed below on the tentative agenda.

Meeting Agenda

The agenda includes the following:

(1) Welcome and opening remarks;

(2) Old Committee Action Items.

(3) Unfinished Committee Action Items to include: Report from the Transportation Workers Identification Card (TWIC) Contact-less Specifications Workgroup and updates on the TWIC Implementation Guide.

(4) Miscellaneous Updates on: the Maritime Sector Coordinating Council; the Safe Port Act of 2006; the Secure Freight Initiative and the Domestic Nuclear Detection Office Maritime Strategy.

(5) Public Comments.

(6) New Committee Action Items.

(7) Closing Remarks.

Procedural

The meeting is open to the public. However, participation in NMSAC deliberations is limited to NMSAC members, Department of Homeland Security officials, and persons attending the meeting for special presentations. Please note that the meeting may close early if all business is finished. The Sheraton National Hotel is a public facility, but persons attending should be ready to show a photo identification card for admittance to the meeting. At the Chair's discretion, members of the public may make oral presentations during the meeting. If you would like to make an oral presentation at the meeting, please notify the NMSAC Executive Assistant no later than February 15, 2007. If you would like a copy of your material distributed to each member of the Committee in advance of the meeting, please follow the instructions prescribed above.

Information on Services for Individuals With Disabilities

For information on facilities or services for individuals with disabilities or to request special assistance at the meeting, contact the Executive Assistant as soon as possible.

Dated: January 30, 2007.
M. P. O'Malley,
Captain, U.S. Coast Guard, Chief, Office of Port and Facility Activities, Designated Federal Official, NMSAC.

[FR Doc. E7-1879 Filed 2-5-07; 8:45 am]

BILLING CODE 4910-15-P